DEPARTMENT OF COMMERCE

National Oceanic and Atmospheric Administration

RIN: 0648-XP11

New England Fishery Management Council; Public Meeting

AGENCY: National Marine Fisheries Service (NMFS), National Oceanic and Atmospheric Administration (NOAA), Commerce.

ACTION: Notice of a public meeting.

SUMMARY: The New England Fishery Management Council (Council) is scheduling a public meeting of its Monkfish Committee on May 27, 2009, to consider actions affecting New England fisheries in the exclusive economic zone (EEZ). Recommendations from this group will be brought to the full Council for formal consideration and action, if appropriate.

DATES: This meeting will be held on Wednesday, May 27, 2009, at 9 a.m.

ADDRESSES: The meeting will be held at the Radisson Hotel Providence Airport, 2081 Post Road, Warwick, RI 02886; telephone: (401) 739-3000; fax: (401) 732-9309.

Council address: New England Fishery Management Council, 50 Water Street, Mill 2, Newburyport, MA 01950.

FOR FURTHER INFORMATION CONTACT: Paul J. Howard, Executive Director, New England Fishery Management Council; telephone: (978) 465-0492.

SUPPLEMENTARY INFORMATION: The Monkfish Committee will develop recommendations to the New England and Mid-Atlantic Councils for measures to be considered in the Draft Environmental Impact Statement (DEIS) for Amendment 5, including, but not limited to: biological and management reference points; specifications of catch target and management measures to achieve the targets (DAS, trip limits and other measures); modifications, additions or deletions to the management measures currently in the plan; and, if time allows, catch share programs (ITQs and/or sectors). The Advisory Panel will be meeting on June 2 and the Committee will meet again on June 3 to finalize their recommendations which will be considered by the Mid-Atlantic Council at their June 9-11 meeting and by the New England Council at their June 23-25 meeting.

Although non-emergency issues not contained in this agenda may come before this group for discussion, those issues may not be the subject of formal action during this meeting. Action will be restricted to those issues specifically listed in this notice and any issues arising after publication of this notice that require emergency action under section 305(c) of the Magnuson-Stevens Act, provided the public has been notified of the Council's intent to take final action to address the emergency.

Special Accommodations

This meeting is physically accessible to people with disabilities. Requests for sign language interpretation or other auxiliary aids should be directed to Paul J. Howard, Executive Director, at (978) 465-0492, at least 5 days prior to the meeting date.

Authority: 16 U.S.C. 1801 et seq.

Dated: May 5, 2009.
William D. Chappell,
Acting Director, Office of Sustainable Fisheries, National Marine Fisheries Service.

[FR Doc. E9-10839 Filed 5-8-09; 8:45 am]

BILLING CODE 3510-22-S